DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Individual Fishing Quota Cost Recovery Program Requirements.

Form Number(s): None.

OMB Approval Number: 0648-0398.

Type of Request: Regular submission.

Burden Hours: 5,984.

Number of Respondents: 2,500.

Average Hours per Response: 2 hours.

Needs and Uses: The Magnuson-Stevens Fishery Conservation and Management Act requires that the Secretary of Commerce maintain a Cost Recovery Program to cover the management and enforcement costs of the Individual Fishing Quotas (IFQ) for Pacific Halibut and Sablefish in the Alaska Fisheries Program. This Cost Recovery Program requires Registered Buyers to submit information about the volume and value of IFQ species landings and for the IFQ permit holders to calculate and submit fees.

Affected Public: Business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 1, 2009.
Gwellnar Banks,
Management Analyst, Office of the Chief Information Officer.

[FR Doc. E9-7678 Filed 4-3-09; 8:45 am]

BILLING CODE 3510-22-P